DEPARTMENT OF COMMERCE

International Trade Administration

[A-580-836]

Certain Cut-to-Length Carbon-Quality Steel Plate Products From the Republic of Korea: Final Results of Antidumping Duty Administrative Review; 2015-2016

AGENCY: Enforcement and Compliance, International Trade Administration, Department of Commerce.

SUMMARY: On March 3, 2017, the Department of Commerce (the Department) published the preliminary results of the administrative review of the antidumping duty order on certain cut-to-length carbon-quality steel plate products (CTL plate) from the Republic of Korea (Korea). Based on our analysis of the comments received, we continue to find that subject merchandise has been sold at less than normal value.

DATES: Applicable September 6, 2017.

FOR FURTHER INFORMATION CONTACT: Yang Jin Chun or Thomas Schauer, AD/CVD Operations, Office I, Enforcement and Compliance, International Trade Administration, U.S. Department of Commerce, 1401 Constitution Avenue NW., Washington, DC 20230; telephone: (202) 482-5760 or (202) 482-0410, respectively.

SUPPLEMENTARY INFORMATION:

Background

On March 3, 2017, the Department published the Preliminary Results of the administrative review.¹ The period of review is February 1, 2015, through January 31, 2016. We invited interested parties to comment on the Preliminary Results and received case and rebuttal briefs from interested parties.²

¹ See Certain Cut-to-Length Carbon-Quality Steel Plate Products from the Republic of Korea: Preliminary Results of Antidumping Duty Administrative Review; 2015-2016, 82 FR 12431 (March 3, 2017) (Preliminary Results).

² See the case briefs from Nucor Corporation and Hyundai Steel Company dated April 3, 2017, the redacted case brief from Samsung C&T Corporation dated April 7, 2017, and the rebuttal briefs from Nucor Corporation, Hyundai Steel Company, and Dongkuk Steel Mill Co., Ltd. dated April 10, 2017.

The Department conducted this review in accordance with section 751 of the Tariff Act of 1930, as amended (the Act).

Scope of the Order

The products covered by the antidumping duty order are certain CTL plate. Imports of CTL plate are currently classified in the Harmonized Tariff Schedule of the United States (HTSUS) under subheadings 7208.40.30.30, 7208.40.30.60, 7208.51.00.30, 7208.51.00.45, 7208.51.00.60, 7208.52.00.00, 7208.53.00.00, 7208.90.00.00, 7210.70.30.00, 7210.90.90.00, 7211.13.00.00, 7211.14.00.30, 7211.14.00.45, 7211.90.00.00, 7212.40.10.00, 7212.40.50.00, 7212.50.00.00, 7225.40.30.50, 7225.40.70.00, 7225.50.60.00, 7225.99.00.90, 7226.91.50.00, 7226.91.70.00, 7226.91.80.00, and 7226.99.00.00. While the HTSUS subheadings are provided for convenience and customs purposes, the written description is dispositive. A full description of the scope of the order is contained in the Issues and Decision Memorandum.³

³ See the Memorandum, “Issues and Decision Memorandum for the Final Results of Antidumping Duty Administrative Review of Certain Cut-to-Length Carbon-Quality Steel Plate Products from the Republic of Korea; 2015-2016,” dated concurrently with and hereby adopted by this notice (Issues and Decision Memorandum).

Analysis of Comments Received

All issues raised in the case and rebuttal briefs by parties in this review are addressed in the Issues and Decision Memorandum, which is hereby adopted by this notice. A list of the issues raised is attached in the Appendix to this notice. The Issues and Decision Memorandum is a public document and is on file electronically via Enforcement and Compliance's Antidumping and Countervailing Duty Centralized Electronic Service System (ACCESS). ACCESS is available to registered users at https://access.trade.gov and to all parties in the Central Records Unit, room B-8024 of the main Department of Commerce building. In addition, a complete version of the Issues and Decision Memorandum can be accessed directly at http://enforcement.trade.gov/frn/index.html.

Final Determination of No Shipments

We preliminarily found that Daewoo International Corp., GS Global Corp., Hyosung Corporation, Hyundai Glovis Co., Ltd., Hyundai Mipo Dockyard Co., Ltd., Samsung C&T Corporation, Samsung Heavy Industries, and SK Networks Co., Ltd. did not have any reviewable entries of subject merchandise during the POR.⁴ After the Preliminary Results, we received no comments or additional information with respect to these eight companies.⁵ Therefore, for the final results, we continue to find that these eight companies did not have any reviewable entries of subject merchandise during the POR. Consistent with our practice, we will issue appropriate instructions to U.S. Customs and Border Protection (CBP) based on our final results.

⁴ See Preliminary Results, 82 FR at 12432 and accompanying Preliminary Decision Memorandum at 3.

⁵ In its case brief, Samsung C&T Corporation requested that the Department issue a final determination of no shipments for Samsung C&T Engineering & Construction Group and Samsung C&T Trading and Investment Group. See Samsung C&T Corporation's redacted case brief dated April 7, 2017. We denied this request. See Issues and Decision Memorandum at Comment 8.

Changes Since the Preliminary Results

Based on our analysis of comments received, we revised the preliminary margin calculations for Dongkuk Steel Mill Co., Ltd. (DSM) and Hyundai Steel Company (Hyundai Steel). These revisions resulted in changes to the margins for DSM and the respondents not selected for individual examination, but no changes to the margin for Hyundai Steel, for the final results of this review.⁶

⁶ See Issues and Decision Memorandum for further details on the changes we made for these final results. See also the Memoranda, “Certain Cut-to-Length Carbon-Quality Steel Plate Products from the Republic of Korea: Final Analysis Memorandum for Dongkuk Steel Mill Co., Ltd.,” and “Certain Cut-to-Length Carbon-Quality Steel Plate Products from the Republic of Korea: Final Results Analysis Memorandum for Hyundai Steel Company,” dated concurrently with this notice.

Final Results of the Administrative Review

We determine that the following weighted-average dumping margins exist for the respondents for the period February 1, 2015, through January 31, 2016.

Producer/exporter | Weighted- average dumping margin (percent)
BDP International | 2.03
Bookuk Steel Co., Ltd | 2.03
Dongkuk Steel Mill Co., Ltd | 1.84
Hyundai Steel Company | 2.05
Samsung C&T Engineering & Construction Group | 2.03
Samsung C&T Trading and Investment Group | 2.03
Sung Jin Steel Co., Ltd | 2.03

Disclosure

We intend to disclose the calculations performed to parties in this proceeding within five days after public announcement of the final results in accordance with 19 CFR 351.224(b).

Assessment Rates

Pursuant to section 751(a)(2)(A) of the Act and 19 CFR 351.212(b)(1), the Department will determine, and CBP shall assess, antidumping duties on all appropriate entries of subject merchandise in accordance with the final results of this review.

For DSM and Hyundai Steel, we calculated importer-specific assessment rates on the basis of the ratio of the total amount of antidumping duties calculated for each importer's examined sales and the total entered value of the sales in accordance with 19 CFR 351.212(b)(1).⁷ For entries of subject merchandise during the period of review produced by DSM or Hyundai Steel for which it did not know its merchandise was destined for the United States, we will instruct CBP to liquidate unreviewed entries at the all-others rate if there is no rate for the intermediate company(ies) involved in the transaction. For the companies which were not selected for individual examination, BDP International, Bookuk Steel Co., Ltd., Samsung C&T Engineering & Construction Group, Samsung C&T Trading and Investment Group, and Sung Jin Steel Co., Ltd., we will instruct CBP to apply the rates listed above to all entries of subject merchandise produced and/or exported by these firms. For the eight companies that we determined had no reviewable entries of the subject merchandise in this review period, we will instruct CBP to liquidate any applicable entries of subject merchandise at the all-others rate. We intend to issue liquidation instructions to CBP 15 days after publication of the final results of these reviews.

⁷ In these final results, the Department applied the assessment rate calculation method adopted in Antidumping Proceedings: Calculation of the Weighted-Average Dumping Margin and Assessment Rate in Certain Antidumping Duty Proceedings; Final Modification, 77 FR 8101 (February 14, 2012).

Cash Deposit Requirements

The following deposit requirements will be applicable upon publication of this notice for all shipments of CTL plate from Korea entered, or withdrawn from warehouse, for consumption on or after the date of publication, as provided by section 751(a)(2)(C) of the Act: (1) The cash deposit rate for the companies listed above will be equal to the weighted-average dumping margins established in the final results of this administrative review; (2) for merchandise exported by producers or exporters not covered in this review but covered in a prior completed segment of the proceeding, the cash deposit rate will continue to be the company-specific rate published for the most recent period; (3) if the exporter is not a firm covered in this review, a prior review, or the original investigation but the producer has been covered in a prior complete segment of this proceeding, the cash deposit rate will be the rate established for the most recent period for the producer of the merchandise; (4) the cash deposit rate for all other manufacturers or exporters will continue to be 0.98 percent,⁸ the all-others rate determined in the less-than-fair-value (LTFV) investigation, adjusted for the export-subsidy rate in the companion countervailing duty investigation. These cash deposit requirements, when imposed, shall remain in effect until further notice.

⁸ See, e.g., Certain Cut-to-Length Carbon-Quality Steel Plate Products from the Republic of Korea: Final Results of Antidumping Duty Administrative Review and New Shipper Review; 2014-2015, 81 FR 62712, 62714 (September 12, 2016).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a violation subject to sanction.

This notice is published in accordance with sections 751(a)(1) and 777(i)(1) of the Act and 19 CFR 351.221(b)(5).

Dated: August 30, 2017.
Gary Taverman.
Deputy Assistant Secretary for Antidumping and Countervailing Duty Operations, performing the non-exclusive functions and duties of the Assistant Secretary for Enforcement and Compliance.

Appendix

List of Topics Discussed in the Issues and Decision Memorandum

Summary

Background

Scope of the Order

Rates for Respondents Not Selected for Individual Examination

Discussion of the Issues

Comment 1: Differential Pricing

Comment 2: Major-Input Rule

Comment 3: Cost Differences Not Associated With Physical Characteristics

Comment 4: Cost of Prime Products

Comment 5: Affiliated-Party Inputs

Comment 6: Overrun Sales

Comment 7: Marine Insurance

Comment 8: Reviewable Entries

[FR Doc. 2017-18824 Filed 9-5-17; 8:45 am]

BILLING CODE 3510-DS-P